DEPARTMENT OF DEFENSE

Defense Acquisition Regulations System

48 CFR Part 204

[DFARS Case 2003-D084]

Defense Federal Acquisition Regulation Supplement; Administrative Matters

AGENCY: Defense Acquisition Regulations System, Department of Defense (DoD).

ACTION: Final rule.

SUMMARY: DoD has issued a final rule amending the Defense Federal Acquisition Regulation Supplement (DFARS) to update text addressing administrative matters related to contract placement. This rule is a result of a transformation initiative undertaken by DoD to dramatically change the purpose and content of the DFARS.

DATES: Effective Date: February 23, 2006.

FOR FURTHER INFORMATION CONTACT: Ms. Robin Schulze, Defense Acquisition Regulations System, OUSD (AT&L) DPAP (DARS), IMD 3C132, 3062 Defense Pentagon, Washington, DC 20301-3062. Telephone (703) 602-0326; facsimile (703) 602-0350. Please cite DFARS Case 2003-D084.

SUPPLEMENTARY INFORMATION:

A. Background

DFARS Transformation is a major DoD initiative to dramatically change the purpose and content of the DFARS. The objective is to improve the efficiency and effectiveness of the acquisition process, while allowing the acquisition workforce the flexibility to innovate. The transformed DFARS will contain only requirements of law, DoD-wide policies, delegations of FAR authorities, deviations from FAR requirements, and policies/procedures that have a significant effect beyond the internal operating procedures of DoD or a significant cost or administrative impact on contractors or offerors. Additional information on the DFARS Transformation initiative is available at http://www.acq.osd.mil/dpap/dars/dfars/transformation/index.htm.

This final rule is a result of the DFARS Transformation initiative. The rule:

• Deletes administrative procedures for DoD signature of contract documents at DFARS 204.101. This text has been relocated to the new DFARS companion resource, Procedures, Guidance, and Information (PGI), available at http://www.acq.osd.mil/dpap/dars/pgi.

• Deletes unnecessary cross-references at DFARS 204.402(1) and 204.902(b).

• Deletes text on security requirements and IRS reporting requirements at DFARS 204.402(2) and 204.904, respectively, as these requirements are adequately addressed in the FAR or elsewhere in the DFARS.

DoD published a proposed rule at 70 FR 19037 on April 12, 2005. DoD received comments from one respondent. The respondent agreed with the proposed change to DFARS 204.101, Contracting officer's signature, and the deletion of DFARS 204.904, Reporting payment information to the IRS. However, the respondent disagreed with deletion of the text at DFARS 204.402 addressing the contractor's obligations regarding the protection of a DoD employee's work product. The respondent stated that deletion of this text could lead contractor personnel to believe that a contractor's procedures trump the security requirements of a DoD employee. DoD does not believe that deletion of the text at DFARS 204.402 will present such a problem, because the clause at DFARS 252.204-7003, Control of Government Personnel Work Product, contains similar text, and that clause is included in all solicitations and contracts in accordance with DFARS 204.404-70(b). Therefore, DoD has adopted the proposed rule as a final rule without change.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the rule updates and streamlines DFARS text, but makes no significant change to DoD contracting policy.

C. Paperwork Reduction Act

The Paperwork Reduction Act does not apply, because the rule does not impose any information collection requirements that require the approval of the Office of Management and Budget under 44 U.S.C. 3501, et seq.

List of Subjects in 48 CFR Part 204

Government procurement.

Michele P. Peterson,
Editor, Defense Acquisition Regulations System.

Therefore, 48 CFR part 204 is amended as follows:

1. The authority citation for 48 CFR part 204 continues to read as follows:

Authority: 41 U.S.C. 421 and 48 CFR Chapter 1.

PART 204—ADMINISTRATIVE MATTERS

2. Section 204.101 is revised to read as follows:

204.101 Contracting officer's signature.

Follow the procedures at PGI 204.101 for signature of contract documents.

3. Section 204.402 is revised to read as follows:

204.402 General.

DoD employees or members of the Armed Forces who are assigned to or visiting a contractor facility and are engaged in oversight of an acquisition program will retain control of their work products, both classified and unclassified.

204.902 [Amended]

4. Section 204.902 is amended in paragraph (b) by removing the parenthetical “(see 204.670)”.

204.904 [Removed]

5. Section 204.904 is removed.

[FR Doc. 06-1634 Filed 2-22-06; 8:45 am]

BILLING CODE 5001-08-P